DEPARTMENT OF COMMERCE

Foreign-Trade Zones Board

[Order No. 1717]

Reorganization and Expansion of Foreign-Trade Zone 5 Under Alternative Site Framework; Seattle, WA

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Port of Seattle, grantee of Foreign-Trade Zone 5, submitted an application to the Board (FTZ Docket 30-2010, filed 04/29/2010) for authority to reorganize and expand under the ASF with a service area of King and Snohomish Counties, Washington (dependent on case-by-case concurrence from the Port of Everett for the latter county), within and adjacent to the Seattle Customs and Border Protection port of entry, FTZ 5's existing Sites 1, 2 and 4 would be categorized as magnet sites, existing Site 3 would be categorized as a usage-driven sites, and the grantee proposes one additional usage-driven site (Site 5);

Whereas, notice inviting public comment was given in the Federal Register (75 FR 24571, 05/05/10) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 5 under the alternative site framework is approved, subject to the FTZ Act and the Board's regulations, including Section 400.28, to the Board's standard 2,000-acre activation limit for the overall general-purpose zone project, to a five-year ASF sunset provision for magnet sites that would terminate authority for Sites 2 and 4 if not activated by October 31, 2015, and to a three-year ASF sunset provision for usage-driven sites that would terminate authority for Sites 3 and 5 if no foreign-status merchandise is admitted for a bona fide customs purpose by October 31, 2013.

Signed at Washington, DC, this 7th day of October 2010.
Ronald K. Lorentzen,
Deputy Assistant Secretary for Import Administration, Alternate Chairman, Foreign-Trade Zones Board.
Attest:
Andrew McGilvray,
Executive Secretary.

[FR Doc. 2010-26409 Filed 10-19-10; 8:45 am]

BILLING CODE 3510-DS-P